DEPARTMENT OF HEALTH AND HUMAN SERVICES

Substance Abuse and Mental Health Services Administration

Agency Information Collection Activities: Proposed Collection; Comment Request

In compliance with section 3506(c)(2)(A) of the Paperwork Reduction Act of 1995 concerning the opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Substance Abuse Prevention and Treatment Block Grant Synar Report Format, FFY 2024-2026—(OMB No. 0930-0222)—Extension

Section 1926 of the Public Health Service Act (42 U.S.C. 300x-26) stipulates Substance Use Prevention, Treatment, and Recovery Services Block Grant (SUPTRS) funding agreements for alcohol and drug abuse programs for fiscal year 1994 and subsequent fiscal years require States to have in effect a law stating that it is unlawful for any manufacturer, retailer, or distributor of tobacco products to sell or distribute any such product to any individual under the age of 21. This section further requires that States conduct annual, random, unannounced inspections to ensure compliance with the law; that the State submit annually a report describing the results of the inspections, the activities carried out by the State to enforce the required law, the success the State has achieved in reducing the availability of tobacco products to individuals under the age of 21, and the strategies to be utilized by the State for enforcing such law during the fiscal year for which the grant is sought.

Before making an award to a State under the Block Grant, the Secretary must make a determination that the State has maintained compliance with the regulations. If a determination is made that the State is not in compliance, penalties shall be applied. There are three (3) penalty options for failure to comply with the Synar requirements: (1) States may be fined a penalty up to 10 percent of the SUPTRS). (2) States may elect to submit a corrective action plan to the Assistant Secretary for Mental Health and Substance Use within 90 days of receipt of notice that they are not in compliance with the Synar regulations, which outlines strategies they will take to reduce the Retail Violation Rate to 20 percent or less. (3) States certify to the Secretary by May 1 of the fiscal year for which the funds are appropriated, consistent with subparagraph (B), that the State will commit additional State funds, in accordance with paragraph (1), to ensure that retailers do not sell tobacco products to individuals under 21 years of age; (Pub. L. 116-94 Stat., sec. 604 pg. 593). Respondents include the 50 States, the District of Columbia, the Commonwealth of Puerto Rico, the U.S. Virgin Islands, Guam, American Samoa, the Commonwealth of the Northern Mariana Islands, Palau, Micronesia, and the Marshall Islands. Red Lake Indian Tribe is not subject to tobacco requirements.

Regulations that implement this legislation are at 45 CFR 96.130, are approved by OMB under control number 0930-0163, and require that each State submit an annual Synar report to the Secretary describing their progress in complying with section 1926 of the PHS Act. The Synar report, due December 31 following the fiscal year for which the state is reporting, describes the results of the inspections and the activities carried out by the State to enforce the required law; the success the State has achieved in reducing the availability of tobacco products to individuals under the age of 21; and the strategies to be utilized by the State for enforcing such law during the fiscal year for which the grant is sought. SAMHSA is requesting an extension of OMB approval of the current report format associated with section 1926 (42 U.S.C. 300x-26) to 2026. Extending OMB approval of the current report format will continue to facilitate consistent, credible, and efficient monitoring of Synar compliance across the States.

Annual Reporting Burden
45 CFR citation | Number of respondents ¹ | Responses per respondents | Total number of responses | Hours per response | Total hour burden
Annual Report (Section 1—States and Territories) 96.130(e)(1-3) | 59 | 1 | 59 | 15 | 885
State Plan (Section II—States and Territories) 96.130(e)(4,5)96.130(g) | 59 | 1 | 59 | 3 | 177
Total | 59 |  | 118 |  | 1,062
¹ Red Lake Indian Tribe is not subject to tobacco requirements.

Send comments to SAMHSA Reports Clearance Officer, 5600 Fishers Lane, Room 15E45, Rockville, Maryland 20857, OR email a copy to samhsapra@samhsa.hhs.gov. Written comments should be received by November 26, 2024.

Alicia Broadus,
Public Health Advisor.

[FR Doc. 2024-22143 Filed 9-26-24; 8:45 am]

BILLING CODE 4162-20-P